ENVIRONMENTAL PROTECTION AGENCY

[EPA-HQ-OPP-2005-0255; FRL-7754-1]

Pesticide Program Dialogue Committee Performance Measures Work Group; Notice of Public Meeting

AGENCY: Environmental Protection Agency (EPA).

ACTION: Notice.

SUMMARY: Pursuant to the Federal Advisory Committee Act (Public Law 92-463), the U.S. Environmental Protection Agency (EPA) gives notice of a public meeting of the Pesticide Program Dialogue Committee (PPDC) Performance Measures Work Group on January 18 to 19, 2006. An agenda for this meeting is being developed and will be posted on EPA's website (http://www.epa.gov/pesticides/ppdc). The work group is developing advice and recommendations concerning performance management measures for EPA's pesticide program.

DATES: The meeting will be held on Wednesday, January 18, 2005 and Thursday, January 19, 2005. The meeting is tentatively scheduled from 9 a.m. to 5 p.m. on both days; please check the agenda posted on EPA's website for any revisions to the scheduled times.

ADDRESSES: The meeting will be held in EPA's offices at Crystal Mall 2, 1801 S. Bell St., Arlington, VA in room 1123.

FOR FURTHER INFORMATION CONTACT: Sherry Sterling, Office of Pesticide Programs (7501C), Environmental Protection Agency, 1200 Pennsylvania Ave., NW., Washington, DC 20460-0001; telephone number: (703) 305-0387; fax number: (703) 308-4776; e-mail address: sterling.sherry@epa.gov.

Information on services for the handicapped: For information on facilities or services for the handicapped or to request special assistance at the meetings, contact Sherry Sterling at (703) 305-0387 as soon as possible.

SUPPLEMENTARY INFORMATION:

I. General Information

A. Does this Action Apply to Me?

This action is directed to the public in general, and may be of particular interest to persons who work in agricultural settings or persons who are concerned about implementation of the Federal Insecticide, Fungicide, and Rodenticide Act (FIFRA); the Federal Food, Drug, and Cosmetic Act (FFDCA); and the amendments to both of these major pesticide laws by the Food Quality Protection Act (FQPA) of 1996. Potentially affected entities may include, but are not limited to: agricultural workers and farmers; pesticide industry and trade associations; environmental, consumer, and farmworker groups; pesticide users and growers; pest consultants; State, local and Tribal governments; academia; public health organizations; food processors; and the public. If you have questions regarding the applicability of this action to a particular entity, consult the person listed under FOR FURTHER INFORMATION CONTACT.

B. How Can I Get Copies of this Document and Other Related Information?

1. Docket. EPA has established an official public docket for this action under docket identification (ID) number EPA-HQ-OPP-2005-0255. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

Agency Website. EDOCKET, EPA's electronic public docket and comment system was replaced on November 25, 2005, by an enhanced federal-wide electronic docket management and comment system located at http://www.regulations.gov. Follow the online instructions.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

The Office of Pesticide Programs is entrusted with responsibility to help ensure the safety of the American food supply, the education and protection from unreasonable risk of those who apply or are exposed to pesticides occupationally or through use of products, and general protection of the environment and special ecosystems from potential risks posed by pesticides.

III. How Can I Request to Participate in this Meeting?

PPDC meetings are open to the public and seating is available on a first-come basis. Persons interested in attending do not need to register in advance of the meeting.

List of Subjects

Environmental protection, Agricultural workers, Agriculture, Chemicals, Foods, Pesticides and pests, Public health, Risk assessment, Tolerance reassessment.

Dated: December 14, 2005.
Marty Monell,
Acting Director, Office of Pesticide Programs

[FR Doc. 05-24466 Filed 12-27-05; 8:45 am]

BILLING CODE 6560-50-S